SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before July 30, 2007.

ADDRESSES: Send all comments regarding whether this information collection is necessary for the proper performance of the function of the agency, whether the burden estimates are accurate, and if there are ways to minimize the estimated burden and enhance the quality of the collection, to Ann Bradbury, Deputy Director, Office of Women Business Ownership, Small Business Administration, 409 3rd Street SW., 6th Floor, Washington, DC 20416.

FOR FURTHER INFORMATION CONTACT: Ann Bradbury, Deputy Director, Office of Women Business Ownership, 202-205-7507, ann.bradbury@sba.gov; Curtis B. Rich, Management Analyst, 202-205-7030, curtis.rich@sba.gov.

SUPPLEMENTARY INFORMATION: Title: “Entrepreneurial Development Management Information System (EDMIS) Counseling Information Form & Management Training Report.

Description of Respondents: New established and prospective small business owners using the services and program by the business.

Form No: 641, 888.

Annual Responses: 276,489.

Annual Burden: 82,947.

Curtis B. Rich,
Acting Chief, Administrative Information Branch.

[FR Doc. E7-10462 Filed 5-30-07; 8:45 am]

BILLING CODE 8025-01-P